DEPARTMENT OF DEFENSE

Notice of the Defense Task Force on Sexual Harassment and Violence at the Military Service Academies—Open Meeting

AGENCY: Department of Defense.

ACTION: Amended notice; notice of the Defense Task Force on Sexual Harassment and Violence at the Military Service Academies—open meeting.

SUMMARY: Pursuant to the Federal Advisory Committee Act (FACA), Public Law 96-463, notice is hereby given that the Defense Task Force on Sexual Harassment and Violence at the Military Service Academies will hold an open meeting at The Thayer Hotel, 674 Thayer Road, West Point, New York 10996, on May 2, 2005 from 1 p.m. to 3:30 p.m. instead of 1 p.m. to 4 p.m.

Purpose: The Task Force will meet on May 2, 2005, from 1 p.m. until 3:30 p.m., and this session will be open to the public, subject to the availability of space. In keeping with the spirit of the Federal Advisory Committee Act, it is the desire of the Task Force to provide the public with an opportunity to make comment regarding the current work of the Task Force. The first hour of the meeting will be designated for public comment. The Superintendent of the U.S. Military Academy will also be provided the opportunity to update the Task Force on the U.S. Military Academy's response to sexual harassment and assault. The Task Force will deliberate, as necessary, based upon the information provided by Academy representatives or members of the public who make comment. Any interested citizens are encouraged to attend.

DATES: May 2, 2005: 1 p.m.-3:30 p.m.

Location: The Thayer Hotel, 674 Thayer Road, West Point, New York 10996.

FOR FURTHER INFORMATION CONTACT: Any member of the public wishing further information concerning this meeting or wishing to submit comments must contact:

Mr. William Harkey, Public Affairs Officer, Task Force on Sexual Harassment and Violence at the Military Service Academies, 2850 Eisenhower Ave, Suite 100, Alexandria, Virginia 22314. Telephone: (703) 325-6640. DSN# 221-6640. Fax: (703) 325-6710/6711. william.harkey.CTR@wso.whs.mil.

Interested persons may submit a written statement for consideration by the Task Force and make an oral presentation of such. Persons desiring to make an oral presentation or submit a written statement to the Task Force must notify the point of contact listed above no later than 5 p.m., April 27, 2005. Oral presentations by members of the public will be permitted only on May 2, 2005, from 1 p.m. until 2 p.m. before the full Task Force. Presentations will be limited to ten minutes each. Number of oral presentations to be made will depend on the number of requests received from members of the public and the time allotted. Each person desiring to make an oral presentation must provide the point of contact listed above with one (1) written copy of the presentation by 5 p.m., April 27, 2005 and bring 15 written copies of any material that is intended for distribution at the meeting. Persons submitting a written statement must submit 15 written copies of the statement to the Task Force staff by 5 p.m. on April 27, 2005.

General Information: Additional information concerning the Defense Task Force on Sexual Harassment and Violence at The Military Service Academies, its structure, function, and composition, may be found on the DTFSH and VTMA Web site (http://www.dtic.mil/dtfs).

Dated: April 27, 2005.
Jeannette Owings-Ballard,
OSD Federal Register Liaison Officer, Department of Defense.

[FR Doc. 05-8806 Filed 4-28-05; 2:17 pm]

BILLING CODE 5001-06-P